DEPARTMENT OF HEALTH AND HUMAN SERVICES

Office of Inspector General

Program Exclusions: January 2004

AGENCY: Office of Inspector General, HHS.

ACTION: Notice of program exclusions.

During the month of January 2004, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Office of Investigation, Office of Inspector General—DHHS, Case Investigation Management System, for Press Release
[From 01/01/2004-01/31/2004]
Subject name | Address | Effective date
PROGRAM-RELATED CONVICTIONS
ALAMSHARYAN, KAREN | GLENDALE, CA | 2/19/2004
ALTUNYAN, OGANES | LONG BEACH, CA | 2/19/2004
BANKS, LANCE | RIDGELAND, MS | 2/19/2004
BEASLEY, HARVEY | JACKSON, MS | 2/19/2004
CHAVEZ, JOHN | COLORADO SPRINGS, CO | 2/19/2004
CHEHEBAR, VICTOR | ROSLYN HARBOR, NY | 2/19/2004
DEBBI, SHAUL | GREAT NECK, NY | 2/19/2004
DIGIORGIO, DAWN | WESTVIEW, NJ | 2/19/2004
DOOLEY'S DRUGS, INC | HARRISVILLE, NY | 2/19/2004
DOOLEY, ARTHUR | HARRISVILLE, NY | 2/19/2004
FLORES, FERNANDO | SALT LAKE CITY, UT | 2/19/2004
HARDRICT, RONALD | LAKEVILLE, MN | 2/19/2004
I & I INVALID COACH, INC | CLIFTON, NJ | 2/19/2004
JACQUEZ, MARISELA | PORTLAND, OR | 2/19/2004
JAMES, SANDRA | JACKSON, MS | 2/19/2004
KHAIR, IMADELIN | PATERSON, NJ | 2/19/2004
NURSES BY SARA, INC | ALBUQUERQUE, NM | 2/19/2004
PICHARDO, RAMON | BROOKLYN, NY | 2/19/2004
PITRE, CAROLYN | WIGGINS, MS | 2/19/2004
RUBIN, MELISSA | ONEONTA, NY | 2/19/2004
SADATI, KAZEM | MIAMI LAKES, FL | 2/19/2004
SHAH, NATHUBHAI | LOCUST VALLEY, NY | 2/19/2004
SHIPLEY, MARK | MORGANTOWN, WV | 2/19/2004
SMITH, PENDLETON | SALEM, VA | 2/19/2004
TURLEY, WENDY | PEORIA, AZ | 2/19/2004
VAUGHN, DEBRA | VENICE, FL | 2/19/2004
ZIERING, WILLIAM | FRESNO, CA | 2/19/2004
FELONY CONVICTION FOR HEALTH CARE FRAUD
ALDEN, ARTHUR | FLORENCE, CO | 2/19/2004
BECK, SANDRA | IVINS, UT | 2/19/2004
BOAL, CHRISTOPHER | RANCHO PALOS VERDES, CA | 2/19/2004
CICERO, STEVEN | KANSAS CITY, MO | 2/19/2004
CLEVELAND, TAMARA | WASHINGTON, DC | 2/19/2004
FIGUEROA, AGUSTINA | HOLLYWOOD, CA | 2/19/2004
KATH, KIRM | ROCHESTER, MN | 2/19/2004
RAVIN, JOHN | TORRANCE, CA | 2/19/2004
REECE, KEITH | LITTLETON, CO | 2/19/2004
WELKER, GLENN | BARRE, VT | 2/19/2004
FELONY CONTROLLED SUBSTANCE CONVICTION
AGRESTA, RUDOLPH | TRENTON, NJ | 2/19/2004
BLEVINS, ROXANNA | TALLAHASSEE, FL | 2/19/2004
COLLINS, BILLY | MORRISTOWN, TN | 2/19/2004
COOK, STEVEN | CEDAR RAPIDS, IA | 2/19/2004
DAVISON, STEPHANIE | MITCHELLVILLE, IA | 2/19/2004
FIGHTMASTER, MELISSA | GEORGETOWN, KY | 2/19/2004
GLICKMAN, LORRAINE | PHILADELPHIA, PA | 2/19/2004
GRIFFITH, CHRISTINE | WEST JORDAN, UT | 2/19/2004
HARMON, DAVID | PHILADELPLHIA, PA | 2/19/2004
HILBERT, DANA | PASCO, WA | 2/19/2004
HOLLAND, KENNETH | DOYLESTWON, PA | 2/19/2004
JARDINE, JON | TUCSON, AZ | 2/19/2004
LAUGHERY, JENNY | BILLINGS, MT | 2/19/2004
MOCKOVIAK, PATRICIA | EDISON, NJ | 2/19/2004
MOTTO, KAREN | BETHPAGE, NY | 2/19/2004
PISTELLO, MICHAEL | LAFOLLETTE, TN | 2/19/2004
PRUETT, ROBERT | DULUTH, MN | 2/19/2004
STANSILL, ASHLEA | SPRING, TX | 2/19/2004
STILWELL, MELISSA | SOMERVILLE, NJ | 2/19/2004
YOUNG, DIANE | ROSE CITY, MI | 2/19/2004
PATIENT ABUSE/NEGLECT CONVICTONS
BELL, APRIL | BATON ROUGE, LA | 2/19/2004
CAINE, STEVEN | GREENVILLE, TN | 2/19/2004
DAVIS, GEORGE | SAINT PAUL, MN | 2/19/2004
DOOLEY, LESLIE | OSKALOOSA, KS | 2/19/2004
ESTRADA, ERICA | WASHINGTON, OK | 2/19/2004
FULLER, JOHN | STANTON, MI | 2/19/2004
GAGE, MITCHELL | GULFPORT, MS | 2/19/2004
GRECO, JOSEPH | FLORISSANT, MO | 2/19/2004
HARRIS, DESHAWN | JACKSON, TN | 2/19/2004
JENKINS, ASHANTAY | PONTIAC, MI | 2/19/2004
MEBANE,PHILLIP | ORLANDO, FL | 2/19/2004
MOORE, MICHAEL | LANSING, KS | 2/19/2004
ORTEGA, CRYSTAL | CLIFTON, CO | 2/19/2004
PERZANOWSKI, REJEANA | WALLINGFORD, VT | 2/19/2004
ROBBINS, RICHARD | SHORT HILLS, NJ | 2/19/2004
SAINE, SAIHOU | PAWTUCKET, RI | 2/19/2004
SAUNDERS, MICHAEL | MOBERLY, MO | 2/19/2004
WARNOCK, ELIZABETH | MIDDLEBURGH, NY | 2/19/2004
WORLEY, DOROTHY | PHOENIX, AZ | 2/19/2004
CONTROLLED SUBSTANCE CONVICTIONS
SERAI, KANWALJIT | TALLAHASSEE, FL | 2/19/2004
LICENSE REVOCATION/SUSPENSION/SURRENDERED
ADAMS, SUZETTE | ROMOLAND, CA | 2/19/2004
AGBAEZE, TAMMY | HENDERSONVILLE, NC | 2/19/2004
ALLAR, CHERYL | TRENTON, NC | 2/19/2004
ALLEN, CASSANDRA | TULSA, OK | 2/19/2004
ALNOR, WARREN | ROZEL, KS | 2/19/2004
ALVAREZ, ABEL | SAN LORENZO, CA | 2/19/2004
AMARAL, SHIRLEEN | RED SPRINGS, NC | 2/19/2004
ANTOL, ALEXIS | PHOENIX, AZ | 2/19/2004
AUDETTE, LAURA | RIDGE, NY | 2/19/2004
BALL, CRYSTAL | WICHITA, KS | 2/19/2004
BARELA, PATRICIA | TUCSON, AZ | 2/19/2004
BARREDA, CAROL | TUCSON, AZ | 2/19/2004
BELT, PAMELA | EDDYVILLE, KY | 2/19/2004
BENCOMO, RAYMOND | TUCSON, AZ | 2/19/2004
BENSON, KAREN | CENTRAL CITY, KY | 2/19/2004
BISHOP, DONNA | ARDEN, NC | 2/19/2004
BISSONNETTE, ROSEMARIE | OCEANSIDE, CA | 2/19/2004
BOOTH, SABRINA | BIRMINGHAM, AL | 2/19/2004
BORNSTEIN, KATHLEEN | N BERGEN, NJ | 2/19/2004
BOSTON, CHARSEE | WEST PALM BEACH, FL | 2/19/2004
BOWMAN, ELIZABETH | MESA, AZ | 2/19/2004
BRENNAN, RHONDA | NASHVILLE, TN | 2/19/2004
BROOKS, AMALIA | LEXINGTON, NC | 2/19/2004
BROUILLET, OPAL | MIDLAND, MI | 2/19/2004
BROWN, LORNA | ELLICOTT CITY, MD | 2/19/2004
BRUNGER, MICHAEL | RICEVILLE, TN | 2/19/2004
BUCKALLEW, TERRI | WATERLOO, IA | 2/19/2004
BURNS, BRIAN | PHOENIX, AZ | 2/19/2004
BYLAS, ELENA | BYLAS, AZ | 2/19/2004
CARNES, BARTON | TEHACHAPI, CA | 2/19/2004
CASE, KATHLEEN | OCEANSIDE, CA | 2/19/2004
CHAPPLE, RINA | ORLANDO, FL | 2/19/2004
CHASE, NEVENA | MESA, AZ | 2/19/2004
CHOWDHRY, SALIM | LOS ANGELES, CA | 2/19/2004
CLEWIS, JESSICA | HAMLET, NC | 2/19/2004
COLLINS, SANDRA | HARRISON, AR | 2/19/2004
COMLY, JILL | CASA GRANDE, AZ | 2/19/2004
CONTOIS, NANCY | S BURLINGTON, VT | 2/19/2004
COOPER, GEORGE | CONOVER, NC | 2/19/2004
COYNE, JOSEPH | SHARON, PA | 2/19/2004
CRAIN, ADAM | PHILIPSBURG, PA | 2/19/2004
CRAVEN, LISHA | LEXINGTON, NC | 2/19/2004
DAVID, SANDRA | GILBERT, AZ | 2/19/2004
DEATHERAGE, EMILY | EVERETT, WA | 2/19/2004
DEBENPORT, NANCY | BATON ROUGE, LA | 2/19/2004
DIAZ, LUCIO | PETALUMA, CA | 2/19/2004
DITOLLA, JAMES | LINDENHURST, NY | 2/19/2004
DOSS, LISA | SANTA ROSA, CA | 2/19/2004
EBY, JUDITH | HARRISBURG, PA | 2/19/2004
EPPINETTE, KRYSTAL | OAK RIDGE, LA | 2/19/2004
ESPINOZA, SHEILA | KINGMAN, AZ | 2/19/2004
ESSEX, MARY | CAMBRIDGE, IA | 2/19/2004
EVIG, SHANNON | YUMA, CO | 2/19/2004
FARLESS, TINA | ROCK SPRINGS, WY | 2/19/2004
FILASETA, BART | TUCSON, AZ | 2/19/2004
FORTE, THURMAN | DURHAM, NC | 2/19/2004
FOSTER, MELANIE | ADDIS, LA | 2/19/2004
FREARSON, MICHELLE | PERRYVILLE, MD | 2/19/2004
GERARD, NICHOLAS | EDWARDS, CO | 2/19/2004
GHINASSI, KELLY | DONORA, PA | 2/19/2004
GILLILAND, NATHAN | TUCSON, AZ | 2/19/2004
GLOVER, DANNY | DES MOINES, IA | 2/19/2004
GORDON, ROGER | ORLANDO, FL | 2/19/2004
GRABER, YVONNE | ROLETTE, ND | 2/19/2004
GRAVES, MELISSA | MINDEN, LA | 2/19/2004
GRIFFITH, GEORGE | ATLANTA, GA | 2/19/2004
GUDERJOHN, BONNIE | COLVILLE, WA | 2/19/2004
GUTIERREZ, JESUS | LA HABRA, CA | 2/19/2004
GWILLIAM, ALFRED | CULVER CITY, CA | 2/19/2004
HARRIS, VICTORIA | BENBROOK, TX | 2/19/2004
HEINRICHS, BETHANY | PEMBINA, ND | 2/19/2004
HENRY, RHONDA | MONTGOMERY, NY | 2/19/2004
HIGHTOWER, PHYLLIS | CORINTH, MS | 2/19/2004
HILL, SHEILA | FAIRFIELD, CA | 2/19/2004
HOSKINS, VICKY | TUCSON, AZ | 2/19/2004
IOZIA, MARK | TUCSON, AZ | 2/19/2004
JEWETT, BRUCE | GRANITEVILLE, VT | 2/19/2004
JOCQUE, MONICA | FOUNTAIN HILLS, AZ | 2/19/2004
JOHNSON, BEVERLY | LOOMIS, CA | 2/19/2004
JONES, APRIL | LAKESIDE, CA | 2/19/2004
JONES, MICHELLE | PULASKI, TN | 2/19/2004
JOSHI, DHARMI | JOHNSON CITY, TN | 2/19/2004
KELLY, JUDY | PHOENIX, AZ | 2/19/2004
KENDALL, STORMIE | MIDVALE, UT | 2/19/2004
KERR, KRISTIN | APACHE JUNCTION, AZ | 2/19/2004
KIM, CHEOL | HUNTINGTON BEACH, CA | 2/19/2004
KINDBLOM, DEBRA | BRISTOL, CT | 2/19/2004
KING, VANDON | PHOENIX, AZ | 2/19/2004
KIRKWOOD, KRISTINE | PHOENIX, AZ | 2/19/2004
KLENTZMAN, MARC | EASTPORT, ME | 2/19/2004
KLINKHAMMER, LAURA | MESA, AZ | 2/19/2004
KUTIN, LEANN | CAMARILLO, CA | 2/19/2004
LANAZCA, KATTY | VENTURA, CA | 2/19/2004
LARIMER, CHRISTOPHER | SHREVEPORT, LA | 2/19/2004
LEE, YUN | GARDENA, CA | 2/19/2004
LONG, TAMARA | LONGMONT, CO | 2/19/2004
LOPEZ, BRIAN | PHOENIX, AZ | 2/19/2004
LUCCHESI, GAIL | BRUNSWICK, GA | 2/19/2004
MANDY'S STUDIO OF MASSAGE | ORLANDO, FL | 2/19/2004
MANN, STEVEN | MACON, GA | 2/19/2004
MANUEL, JERMAINE | PHOENIX, AZ | 2/19/2004
MARSHALL, PATRICIA | HENDERSONVILLE, NC | 2/19/2004
MASONER, SUSAN | NEW BRAUNFELS, TX | 2/19/2004
MAYO, JORGE | PETALUMA, CA | 2/19/2004
MAYS, TINA | HOMOSASSA SPRINGS, FL | 2/19/2004
MCCRAY, SAMANTHA | BENNINGTON, VT | 2/19/2004
MCGIRK, FREDERIC | LAKE ST LOUIS, MO | 2/19/2004
MICKENS, CRYSTAL | EL CAJON, CA | 2/19/2004
MILEY, FRANCINA | GLEN MILLS, PA | 2/19/2004
MILLER, BONNIE | N SAFETY HARBOR, FL | 2/19/2004
MILLER, EDITH | JONESBOROUGH, TN | 2/19/2004
MORSE, EDWARD | ASHEVILLE, NC | 2/19/2004
MULLIN, GUY | MIAMI, OK | 2/19/2004
MUNOZ, RACHEL | BAKERSFIELD, CA | 2/19/2004
NEELEY, MICHAEL | MENIFEE, CA | 2/19/2004
NEW, BRENDA | MIDDLEBURY, VT | 2/19/2004
NIELSEN, DARRI | CLEARFIELD, UT | 2/19/2004
NING, JOHN | LEESVILLE, LA | 2/19/2004
ORDONIA, CARMELITA | HOLLYWOOD, CA | 2/19/2004
OROZCO, GEORGE | TUCSON, AZ | 2/19/2004
OSTERGAARD, MARY | SALT LAKE CITY, UT | 2/19/2004
OZMENT, DAVID | MONTGOMERY, AL | 2/19/2004
PALMER, CHARLES | NORTH HAVEN, CT | 2/19/2004
PARRISH, JOANNE | RANDLETT, UT | 2/19/2004
PEARSON, JOLENE | NASHVILLE, TN | 2/19/2004
PECORARO, ANGELA | PHOENIX, AZ | 2/19/2004
PICKERING, JOANNE | TUCSON, AZ | 2/19/2004
PITTMAN, MARIA | SAN DIEGO, CA | 2/19/2004
PLUNK, CARRIE | MURFREESBORO, AR | 2/19/2004
POLANEN, MARY | FORT MILL, SC | 2/19/2004
PRUD'HOMME, ANNE | COLORADO SPRINGS, CO | 2/19/2004
QUINN, LINDA | OLD HICKORY, TN | 2/19/2004
RAY, DEBRA | HAWTHORNE, NJ | 2/19/2004
ROBINSON, CYNTHIA | VIRGINIA BEACH, VA | 2/19/2004
RODRIGUEZ, ARMANDO | TUCSON, AZ | 2/19/2004
ROEMER, LAWRENCE | GALENA, IL | 2/19/2004
ROGERS, LISA | PONTE VERDA, FL | 2/19/2004
ROMSEY, DEANNA | DELTONA, FL | 2/19/2004
ROSE, TIMOTHY | GREENVILLE, NC | 2/19/2004
ROSSIGNOL, RONALD | KENNEBUNKPORT, ME | 2/19/2004
ROY, SHANDA | JACKSONVILLE, AR | 2/19/2004
RUANO, KATHY | TREVOR, WI | 2/19/2004
RUIZ, HENRY | LAWNDALE, CA | 2/19/2004
RYAN, DEBORA | MESA, AZ | 2/19/2004
SAIMO, CYBELE | CORNVILLE, AZ | 2/19/2004
SALAZAR, ALEJANDRO | OXNARD, CA | 2/19/2004
SAMPSON, CECILIA | CHANDLER, AZ | 2/19/2004
SANDERS, KHRISTIE | MANSURA, LA | 2/19/2004
SANTIAGO, DIANE | MADERA, CA | 2/19/2004
SCHMIDT, WILLIAM | ESTES PARK, CO | 2/19/2004
SENGBUSCH, DONNA | TUCSON, AZ | 2/19/2004
SMITH, BRENDA | INDIANAPOLIS, IN | 2/19/2004
SMITH, CAROL | FAIRWAY, KS | 2/19/2004
SMITH, CAROL | MORENO VALLEY, CA | 2/19/2004
SORBELLO, TANYA | GLASSBORO, NJ | 2/19/2004
SPANIER, CYNTHIA | PITTSBURGH, PA | 2/19/2004
SPRINGER, YVONNE | PRESCOTT VALLEY, AZ | 2/19/2004
SPRINKLE, JANE | GREENEVILLE, TN | 2/19/2004
STAGG, DAVID | SAN DIEGO, CA | 2/19/2004
STASKIEL, VICTORIA | STONY BROOK, NY | 2/19/2004
STEADMAN, CAROL | AURORA, CO | 2/19/2004
STOCKMYER, SCOTT | UNIVERSITY PLACE, WA | 2/19/2004
STOUT, DONNA | HAMPTONVILLE, NC | 2/19/2004
STRACKBINE, BRAD | JAMUL, CA | 2/19/2004
STRAUCH, DAVID | ST PAULS, NC | 2/19/2004
STRAWDER, TIA | LAKE CHARLES, LA | 2/19/2004
TALON, ALEXI | SCHENECTADY, NY | 2/19/2004
TINAZA, RICHARD | STOCKTON, CA | 2/19/2004
TODD, DEANNA | GASTONIA, NC | 2/19/2004
TRAVIS-LASHER, ALLISON | HOUSTON, TX | 2/19/2004
TULEY, JOHN | YORK, PA | 2/19/2004
TURNER, HAYLEY | OLYMPIA, WA | 2/19/2004
VANGESEN, ADAM | BEAVER DAMS, NY | 2/19/2004
VENANGO, CHARLES | PHILADELPHIA, PA | 2/19/2004
VLACH, VICTORIA | CASPER, WY | 2/19/2004
WADE, CATHERINE | DERRY, NH | 2/19/2004
WAGNER, JOANNA | MONROEVILLE, PA | 2/19/2004
WALLS-SMITH, SONDRA | COLUMBUS, IN | 2/19/2004
WARD, JENNIFER | VIDALIA, LA | 2/19/2004
WARRICK, KATHLEEN | MOSCOW, PA | 2/19/2004
WATKINS, STEVEN | BRENTWOOD, TN | 2/19/2004
WEBB, GERRY | BRIGHTON, CO | 2/19/2004
WILLIAMS, JASON | LONG BEACH, CA | 2/19/2004
WILLIAMS, TRACI | IDAHO FALLS, ID | 2/19/2004
WILMOT, LISA | POCATELLO, ID | 2/19/2004
WILSON, ERICA | TUCSON, AZ | 2/19/2004
WOTEN, JAYNE | SIOUX CITY, IA | 2/19/2004
ZEBROWSKI, JOSEPH | ENFIELD, CT | 2/19/2004
ZHANG, CHUN | IRVINE, CA | 2/19/2004
FEDERAL/STATE EXCLUSION/SUSPENSION
Williams, Jesse | Columbus, MS | 2/19/2004
OWNED/CONTROLLED BY CONVICTED ENTITIES
CAPITOL MED, INC | TALLAHASSEE, FL | 2/19/2004
PLEASANT RUN PODIATRY, INC | CINCINNATI, OH | 2/19/2004
SERRANO PHARMACY DISCOUNT, INC | MIAMI, FL | 2/19/2004
VENICE MEDICAL & SUPPLY, INC | VENICE, FL | 2/19/2004
DEFAULT ON HEAL LOAN
ABELLA, FRANCISCO | PALM BEACH, FL | 2/19/2004
ARGUETA, MIGUEL | MIAMI, FL | 2/19/2004
CHEN, SYNG-FU | PALOS VERDES PENINSULA, CA | 2/19/2004
HAGEN, WILLIAM | FORT MYERS, FL | 12/10/2003
HARRIS, DONA | RIDGELAND, MS | 12/16/2003
KAPLAN, DAVID | CHELSEA, MA | 12/10/2003
SHEPHERD, STUART | PHILADELPHIA, PA | 11/20/2003
SPHEERIS, ELENI | MILWAUKEE, WI | 2/19/2004

Dated: January 5, 2004.
Kathleen Pettit,
Acting Director, Exclusions Staff, Office of Inspector General.

[FR Doc. 04-3097 Filed 2-11-04; 8:45 am]

BILLING CODE 4150-04-P